DEPARTMENT OF STATE

[Public Notice: 6797]

60-Day Notice of Proposed Information Collections: Two Information Collections

ACTION: Notice of request for public comments.

SUMMARY: The Department of State is seeking Office of Management and Budget (OMB) approval for the information collections described below. The purpose of this notice is to allow 60 days for public comment in the Federal Register preceding submission to OMB. We are conducting this process in accordance with the Paperwork Reduction Act of 1995.

• Title of Information Collection: Brokering Prior Approval (License).

• OMB Control Number: 1405-0142.

• Type of Request: Extension of Currently Approved Collection.

• Originating Office: Bureau of Political-Military Affairs, Directorate of Defense Trade Controls, PM/DDTC.

• Form Number: None.

• Respondents: Business and Nonprofit Organizations.

• Estimated Number of Respondents: 980.

• Estimated Number of Responses: 100.

• Average Hours per Response: 2 hours.

• Total Estimated Burden: 200 hours.

• Frequency: On Occasion.

• Obligation to Respond: Required to Obtain Benefits.

• Title of Information Collection: Annual Brokering Report.

• OMB Control Number: 1405-0141.

• Type of Request: Extension of Currently Approved Collection.

• Originating Office: Bureau of Political-Military Affairs, Directorate of Defense Trade Controls, PM/DDTC.

• Form Number: None.

• Respondents: Business and Nonprofit Organizations.

• Estimated Number of Respondents: 980.

• Estimated Number of Responses: 600.

• Average Hours per Response: 2 hours.

• Total Estimated Burden: 1,200 hours.

• Frequency: On Occasion.

• Obligation to Respond: Mandatory.

DATES: The Department will accept comments from the public up to 60 days from October 28, 2009.

ADDRESSES: Comments and questions should be directed to Nicholas Memos, Office of Defense Trade Controls Policy, Department of State, who may be reached via the following methods:

• E-mail: memosni@state.gov.

• Mail: Nicholas Memos, SA-1, 12th Floor, Directorate of Defense Trade Controls, Bureau of Political-Military Affairs, U.S. Department of State, Washington, DC 20522-0112

• Fax: 202-261-8199.

You must include the information collection title in the subject lines of your message/letter.

FOR FURTHER INFORMATION CONTACT: Direct requests for additional information regarding the collection listed in this notice, including requests for copies of the information collection and supporting documents, to Nicholas Memos, PM/DDTC, SA-1, 12th Floor, Directorate of Defense Trade Controls, Bureau of Political-Military Affairs, U.S. Department of State, Washington, DC 20522-0112, who may be reached via phone at (202) 663-2804, or via e-mail at memosni@state.gov.

SUPPLEMENTARY INFORMATION: We are soliciting public comments to permit the Department to:

• Evaluate whether the proposed collection of information is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The export, temporary import, temporary export and brokering of defense articles, defense services and related technical data are licensed by the Directorate of Defense Trade Controls in accordance with the International Traffic in Arms Regulations (22 CFR parts 120-130) and Section 38 of the Arms Export Control Act. Those of the public who manufacture or export defense articles, defense services, and related technical data, or the brokering thereof, must register with the Department of State. Persons desiring to engage in export, temporary import, and brokering activities must submit an application or written request to conduct the transaction to the Department to obtain a decision whether it is in the interests of U.S. foreign policy and national security to approve the transaction. Also, registered brokers must submit annual reports regarding all brokering activity that was transacted, and registered manufacturers and exporter must maintain records of defense trade activities for five years.

Methodology: These forms/information collections may be sent to the Directorate of Defense Trade Controls via the following methods: electronically, mail, personal delivery, and/or fax.

Dated: October 20, 2009.
Robert S. Kovac,
Acting Deputy Assistant Secretary for Defense Trade, Bureau of Political-Military Affairs, U.S. Department of State.

[FR Doc. E9-25953 Filed 10-27-09; 8:45 am]

BILLING CODE 4710-25-P